CONSUMER PRODUCT SAFETY COMMISSION

[Docket No. CPSC-2018-0006]

Draft Guidelines for Determining Age Appropriateness of Toys; Notice of Extension of Comment Period

AGENCY: U.S. Consumer Product Safety Commission.

ACTION: Extension of comment period.

SUMMARY: The Consumer Product Safety Commission (Commission or CPSC) published a notice of availability (NOA) in the Federal Register, announcing the availability of a draft document titled, “Guidelines for Determining Age Appropriateness of Toys,” on March 27, 2018. The Commission invited the public to submit comments on the draft guidelines; the comment period, as set in the NOA, ends on June 11, 2018. The Commission is extending the comment period until July 31, 2018.

DATES: Submit comments by July 31, 2018.

ADDRESSES: You may submit comments, identified by Docket No. CPSC-2018-0006, by any of the following methods:

Electronic Submissions

Submit electronic comments in the following way:

Federal eRulemaking Portal: http://www.regulations.gov. Follow the instructions for submitting comments. The Commission does not accept comments submitted by electronic mail (email), except through: http://www.regulations.gov. The Commission encourages you to submit electronic comments by using the Federal eRulemaking Portal, as described above.

Written Submissions

Submit written submissions in the following way:

Mail/Hand delivery/Courier to: Office of the Secretary, Consumer Product Safety Commission, Room 820, 4330 East West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information electronically. Such information should be submitted in writing.

Docket: For access to the docket to read background documents or comments received, go to: http://www.regulations.gov and insert the Docket No. CPSC-2018-0006 into the “Search” box and follow the prompts.

SUPPLEMENTARY INFORMATION:

On March 27, 2018, the Commission published an NOA in the Federal Register, announcing the availability of a draft document titled, “Guidelines for Determining Age Appropriateness of Toys” (83 FR 13121). The Commission invited the public to submit comments on the draft guidelines, and the comment period, as set in the NOA, ends on June 11, 2018. The Commission received a request to extend the comment period until the end of July 2018. The Commission is extending the comment period until July 31, 2018, to allow additional time for public comment on the draft guidelines.

Alberta E. Mills,
Secretary, U.S. Consumer Product Safety Commission.

[FR Doc. 2018-11994 Filed 6-4-18; 8:45 am]

BILLING CODE 6355-01-P